DEPARTMENT OF TRANSPORTATION

Federal Aviation Administration

14 CFR Part 39

[Docket No. FAA-2016-9071; Directorate Identifier 2016-NM-019-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A318, A319, A320, and A321 series airplanes. This proposed AD was prompted by an evaluation by the design approval holder (DAH) which indicates that the main landing gear (MLG) does not comply with certification specifications, which could result in a locking failure of the MLG side stay. This proposed AD would require modification or replacement of certain MLG side stay assemblies. We are proposing this AD to prevent possible collapse of the MLG during takeoff and landing.

DATES: We must receive comments on this proposed AD by October 24, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this NPRM, contact Airbus, Airworthiness Office—EIAS, 1 Rond Point Maurice Bellonte, 31707 Blagnac Cedex, France; telephone: +33 5 61 93 36 96; fax: +33 5 61 93 44 51; email: account.airworth-eas@airbus.com; Internet: http://www.airbus.com. You may view this referenced service information at the FAA, Transport Airplane Directorate, 1601 Lind Avenue SW., Renton, WA. For information on the availability of this material at the FAA, call 425 227-1221.

Examining the AD Docket

You may examine the AD docket on the Internet at http://www.regulations.gov by searching for and locating Docket No. FAA-2016-9071; or in person at the Docket Management Facility between 9 a.m. and 5 p.m., Monday through Friday, except Federal holidays. The AD docket contains this proposed AD, the regulatory evaluation, any comments received, and other information. The street address for the Docket Operations office (telephone: 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone: 425-227-1405; fax: 425-227-1149.

SUPPLEMENTARY INFORMATION:

Comments Invited

We invite you to send any written relevant data, views, or arguments about this proposed AD. Send your comments to an address listed under the ADDRESSES section. Include “Docket No. FAA-2016-9071; Directorate Identifier 2016-NM-019-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA AD 2016-0018, dated January 19, 2016 (referred to after this as the Mandatory Continuing Airworthiness Information, or “the MCAI”), to correct an unsafe condition for certain Airbus Model A318, A319, A320, and A321 series airplanes. The MCAI states:

During studies for a new landing gear design, it was discovered that the single-locked upper and lower cardan joints of the MLG do not comply with the certification specifications of (CS), (formerly Joint Aviation Requirements (JAR)) Part 25.607.

This condition, if not corrected, could lead to MLG side stay locking failure that, during take-off and landing, may result in damage to the aeroplane and detrimental effect on safe flight.

To address this potential unsafe condition, the MLG manufacturer developed a modification to change the single-locked MLG joint into a double-locked one. This modification is available for in-service application through Messier-Bugatti-Dowty (MBD) Service Bulletin (SB) 200-32-315 or SB 201-32-63, or Airbus SB A320-32-1429.

For the reasons described above, this [EASA] AD requires modification or replacement of the MLG side stay assemblies to introduce the double locking of the MLG upper and lower cardan joints.

You may examine the MCAI in the AD docket on the Internet at http://www.regulations.gov by searching for and locating Docket No. FAA-2016-9071.

Related Service Information Under 1 CFR Part 51

We have reviewed the following service information. The service information describes procedures for modifying the MLG side stay assembly.

• Airbus Service Bulletin A320-32-1429, dated September 10, 2015.

• Messier-Bugatti-Dowty Service Bulletin 200-32-315, dated April 24, 2015.

• Messier-Bugatti-Dowty Service Bulletin 201-32-63, dated April 24, 2015.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

The MCAI allows modification to the MLG in accordance with the following Airbus service information or the applicable Messier-Bugatti-Dowty service information:

• Airbus Service Bulletin A320-32-1429, dated September 10, 2015;

• Messier-Bugatti-Dowty Service Bulletin 200-32-315, dated April 24, 2015;

• Messier-Bugatti-Dowty Service Bulletin 201-32-63, dated April 24, 2015.

This proposed AD would require that the MLG be modified in accordance with the Airbus service information and the applicable Messier-Bugatti-Dowty service information.

Costs of Compliance

We estimate that this proposed AD affects 959 airplanes of U.S. registry.

We estimate the following costs to comply with this proposed AD:

Estimated Costs
Action | Labor cost | Parts cost | Cost per product | Cost on U.S. operators
Replacement or Modification | 9 work-hour × $85 per hour = $765 | $14,104 | $14,869 | $14,259,371

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new Airworthiness Directive (AD):

Airbus: Docket No. FAA-2016-9071; Directorate Identifier 2016-NM-019-AD.

(a) Comments Due Date

We must receive comments by October 24, 2016.

(b) Affected ADs

None

(c) Applicability

This AD applies to the airplanes identified in paragraphs (c)(1), (c)(2), (c)(3), and (c)(4) of this AD, certificated in any category, all manufacturer serial numbers.

(1) Airbus Model A318-111, -112, -121, and -122 airplanes.

(2) Airbus Model A319-111, -112, -113, -114, -115, -131, -132, and -133 airplanes.

(3) Airbus Model A320-211, -212, -214, -231, -232, and -233 airplanes.

(4) Airbus Model A321-111, -112, -131, -211, -212, -213, -231, and -232 airplanes.

(d) Subject

Air Transport Association (ATA) of America Code 32, Landing Gear.

(e) Reason

This AD was prompted by an evaluation by the design approval holder (DAH) which indicates that the main landing gear (MLG) does not comply with certification specifications, which could result in a locking failure of the MLG side stay. We are issuing this AD to prevent possible collapse of the MLG during takeoff and landing.

(f) Compliance

Comply with this AD within the compliance times specified, unless already done.

(g) Modification or Replacement

Within 66 months after the effective date of this AD, accomplish the action specified in paragraph (g)(1) or (g)(2) of this AD.

(1) Modify each MLG side stay assembly having a part number listed in figure 1 to paragraphs (g), (h), and (i) of this AD, in accordance with the Accomplishment Instructions of Airbus Service Bulletin A320-32-1429, dated September 10, 2015, and the service information specified in paragraph (g)(1)(i) or (g)(1)(ii) of this AD, as applicable.

(i) For Model A318 series airplanes; Model A319 series airplanes; Model A320-211, -212, -214, -231, -232, and -233 airplanes: Messier-Bugatti-Dowty Service Bulletin 200-32-315, dated April 24, 2015.

(ii) For Model A321 series airplanes: Messier-Bugatti-Dowty Service Bulletin 201-32-63, dated April 24, 2015.

(2) Replace the MLG side stay assembly with a side stay assembly that has been modified in accordance with paragraph (g)(1) of this AD. Do the replacement using a method approved by the Manager, International Branch, ANM-116, Transport Airplane Directorate, FAA; or The European Aviation Safety Agency (EASA); or Airbus's EASA Design Organization Approval (DOA).

Note 1 to paragraph (g)(2) of this AD: Additional guidance for the replacement can be found in Chapter 32 of the Airbus A318/A319/A320/A321 Aircraft Maintenance Manual.

(h) Unaffected Airplanes

An airplane on which Airbus modification (mod) 156646, Airbus mod 161202, or Airbus mod 161346 has been embodied in production is not affected by the requirements of paragraph (g) of this AD, provided it is determined that no part having a part number identified as listed in figure 1 to paragraphs (g), (h), and (i) of this AD, has been installed on that airplane since the date of issuance of the original certificate of airworthiness or the original export certificate of airworthiness. A review of maintenance records is acceptable to make this determination, provided that these records are accurate and can be relied upon to conclusively make that determination.

(i) Parts Installation Prohibition

As of the effective date of this AD, do not install on any airplane, an MLG side stay assembly having a part number, with the strike number not cancelled, as identified in figure 1 to paragraphs (g), (h), and (i) of this AD, unless it has been modified in accordance with the requirements of paragraph (g) of this AD.

Figure 1 to Paragraphs (g), (h), and (i) of This AD—Affected MLG Side Stay Assemblies
Models | Affected part numbers (the `xxx' used in this figure can be any 3-digit combination) | Strike number not cancelled
A318-111, -112, -121, and -122 airplanes; A319-111, -112, -113, -114, -115, -131, -132, and -133 airplanes; A320-211, -212, -214, -231, -232, and -233 airplanes | 201166001-xxx 201166002-xxx 201166003-xxx 201166004-xxx 201166005-xxx | 12 12 12 12 12
| 201166006-xxx | 12
| 201166007-xxx | 12
| 201166008-xxx | 12
| 201166009-xxx | 12
| 201166010-xxx | 12
| 201166011-xxx | 12
| 201166012-xxx | 12
| 201166013-000 through 201166013-030 inclusive | 12
| 201166014-000 through 201166014-030 inclusive | 12
A321-111, -112, and -131 airplanes | 201390001-000 through 201390001-040 inclusive | 15
| 201390002-000 through 201390002-040 inclusive | 15
| 201527001-000 through 201527001-025 inclusive | 15
| 201527002-000 through 201527002-025 inclusive | 15
A321-211, -212, -213, -231, and -232 airplanes | 201524001-000 through 201524001-035 inclusive | 15
| 201524002-000 through 201524002-035 inclusive | 15
| 201660001-000 through 201660001-030 inclusive | 15
| 201660002-000 through 201660002-030 inclusive | 15

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone: 425-227-1405; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or The European Aviation Safety Agency (EASA); or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

(1) Refer to Mandatory Continuing Airworthiness Information (MCAI) EASA AD 2016-0018, dated January 19, 2016, for related information. You may examine the MCAI on the Internet at http://www.regulations.gov by searching for and locating Docket No. FAA-2016-9071.

(2) For service information identified in this AD, contact Airbus, Airworthiness Office—EIAS, 1 Rond Point Maurice Bellonte, 31707 Blagnac Cedex, France; telephone: +33 5 61 93 36 96; fax: +33 5 61 93 44 51; email: account.airworth-eas@airbus.com; Internet: http://www.airbus.com. You may view this service information at the FAA, Transport Airplane Directorate, 1601 Lind Avenue SW., Renton, WA. For information on the availability of this material at the FAA, call 425-227-1221.

Issued in Renton, Washington, on August 19, 2016.
Dorr M. Anderson,
Acting Manager, Transport Airplane Directorate, Aircraft Certification Service.

[FR Doc. 2016-21282 Filed 9-7-16; 8:45 am]

BILLING CODE 4910-13-P